SURFACE TRANSPORTATION BOARD

[Docket No. FD 36558]

Savannah Port Terminal Railroad, Inc.—Operation Exemption—Georgia Ports Authority

Savannah Port Terminal Railroad, Inc. (SAPT), a Class III rail carrier, has filed a verified notice of exemption under 49 CFR 1150.41 to operate approximately one mile of common carrier track owned by the Georgia Ports Authority (GPA) within the GPA facility known as the Garden City Terminal (GCT) (the Line). The Line has no mileposts.

The verified notice states that SAPT has entered into an Operating Agreement with GPA pursuant to which SAPT will operate the Line.¹ SAPT states that it currently holds common carrier authority to operate the Line through a 1998 easement agreement with GPA.

¹ SAPT states that, under the Operating Agreement, it will also operate an additional approximately 34 miles of track within GCT and GPA's new Mason Mega-rail Terminal as yard and side tracks.

SAPT certifies that the acquisition does not impose or include an interchange commitment. SAPT further certifies that its projected annual revenues as a result of this transaction will not result in SAPT's becoming a Class II or Class I rail carrier but that its current annual revenues exceed $5 million. Pursuant to 49 CFR 1150.42(e), if a carrier's projected annual revenues will exceed $5 million, it must, at least 60 days before the exemption becomes effective, post a notice of its intent to undertake the proposed transaction at the workplace of the employees on the affected lines, serve a copy of the notice on the national offices of the labor unions with employees on the affected lines, and certify to the Board that it has done so. However, SAPT's verified notice includes a request for waiver of the 60-day advance labor notice requirements. SAPT's waiver request will be addressed in a separate decision. The Board will establish the effective date of the exemption in its separate decision on the waiver request.

If the verified notice contains false or misleading information, the exemption is void ab initio. Petitions to revoke the exemption under 49 U.S.C. 10502(d) may be filed at any time. The filing of a petition to revoke will not automatically stay the effectiveness of the exemption. Petitions to stay must be filed no later than December 23, 2021.

All pleadings, referring to Docket No. FD 36558, should be filed with the Surface Transportation Board via e-filing on the Board's website. In addition, a copy of each pleading must be served on SAPT's representative: Eric M. Hocky, Clark Hill PLC, Two Commerce Square, 2001 Market Street, Suite 2620, Philadelphia, PA 19103.

According to SAPT, this action is categorically excluded from environmental review under 49 CFR 1105.6(c) and from historic preservation reporting requirements under 49 CFR 1105.8(b).

Board decisions and notices are available at www.stb.gov.

Decided: December 13, 2021.
By the Board, Scott M. Zimmerman, Acting Director, Office of Proceedings.
Jeffrey Herzig,
Clearance Clerk.

[FR Doc. 2021-27247 Filed 12-15-21; 8:45 am]

BILLING CODE 4915-01-P